NATIONAL AERONAUTICS AND SPACE ADMINISTRATION

[Notice: 22-014]

Centennial Challenges Watts on the Moon Challenge Phase 2

AGENCY: National Aeronautics and Space Administration (NASA).

ACTION: Notice of Centennial Challenges Watts on the Moon Challenge Phase 2.

SUMMARY: Phase 2 of the Watts on the Moon Challenge is open, and teams that wish to compete may now register. NASA seeks to stimulate research and technology solutions to support future missions and inspire new national aerospace capabilities through public prize competitions called Centennial Challenges. The Watts on the Moon Challenge is one such competition. Centennial Challenges are managed at NASA's Marshall Space Flight Center in Huntsville, Alabama and are part of the Prizes, Challenges, and Crowdsourcing program within NASA's Space Technology Mission Directorate at the agency's Headquarters in Washington. Phase 2 of the Watts on the Moon Challenge seeks to attract innovative engineering approaches to integrating power transmission and energy storage in order to enable missions operating in the extreme cold vacuum of the lunar surface. Phase 2 of the Watts on the Moon Challenge is a prize competition with a total prize purse of $4,500,000 USD, (four and a half million United States dollars) to be awarded to competitor teams that build and successfully demonstrate prototypes of novel technologies. Successful demonstrations from this challenge will complement ongoing NASA investments in lunar surface power generation. NASA is funding the prize purse and administration of the challenge competition. Any eligible individual or organization may participate in Phase 2. teams are not required to have participated in Phase 1.

DATES: Phase 2 registration opens February 23, 2022, and will remain open until June 15, 2022. No further requests for registration will be accepted after this date. Other important dates, including deadlines for key deliverables from the teams, are listed on the Challenge website: www.nasa.gov/wattson.

ADDRESSES: Phase 2 of the Watts on the Moon Challenge will be conducted virtually, with competitor teams developing and submitting their concept proposals and building their prototypes from their own locations. Eligible finalist will test their solutions at a NASA facility as described in the Official Rules document.

FOR FURTHER INFORMATION CONTACT: Questions and comments regarding the challenge should be addressed to Denise Morris, Centennial Challenges Deputy Program Manager, NASA Marshall Space Flight Center Huntsville, AL 35812. Phone number 256-544-3989 and Email address: hq-stmd-centennialchallenges@mail.nasa.gov. For general information on NASA prize competitions, challenges, and crowdsourcing opportunities, please visit: www.nasa.gov/solve.

To register or for additional information regarding the Watts on the Moon Challenge, please visit: www.nasa.gov/wattson.

SUPPLEMENTARY INFORMATION: For Watts on the Moon Phase 2, NASA is seeking solutions that:

1. Draw power from an intermittent NASA power source and deliver power to a continuous NASA load bank;

2. Operate in simulated lunar temperatures and vacuum;

3. Operate continuously without any additional power generation;

4. Demonstrate a capability to deliver power over a distance of 3 km; and

5. Optimize total system mass and total system efficiency.

I. Prize Amounts

The Watts on the Moon Challenge Phase 2 total prize purse is $4,500,000 USD (four and a half million United States dollars) to be awarded across Phase 2 of this competition. There will be three (3) competition levels in Phase 2, with a prize award after each of the three (3) levels. The winners will be determined by a Judging Panel.

• Level 1—Up to seven (7) winning teams with a total prize purse of $1,400,000.

• Level 2—Up to four (4) winning teams with a total prize purse of 1,600,000.

• Level 3—Up to two (2) winning teams with a total prize purse of $1,500,000.

Teams must meet the eligibility requirements for the NASA prize in order to receive a prize from NASA.

II. Eligibility To Participate and Win Prize Money

To be eligible to win a prize, competitors must register and comply with all requirements in the Official Rules. Eligibility requirements include:

• Individuals must be U.S. citizens or permanent residents of the United States and be 18 years of age or older.

• Organizations must be an entity incorporated in and maintaining a primary place of business in the United States.

• Teams must be comprised of otherwise eligible individuals or organizations and led by an otherwise eligible individual or organization.

Interested teams should refer to the official Challenge website (www.nasa.gov/wattson) for full details on eligibility requirements and registration.

III. Official Rules

The complete official rules for the Watts on the Moon Challenge, can be found at: https://www.herox.com/WattsOnTheMoon/guidelines.

Cheryl Parker,
NASA Federal Register Liaison Officer.

[FR Doc. 2022-04010 Filed 2-23-22; 8:45 am]

BILLING CODE 7510-13-P